DEPARTMENT OF THE INTERIOR

Fish and Wildlife Service

[FWS-R1-ES-2011-N073;10120-1113-0000-C2]

Endangered and Threatened Wildlife and Plants; Draft Revised Recovery Plan for the Northern Spotted Owl—Appendix C

AGENCY: Fish and Wildlife Service, Interior.

ACTION: Notice of document availability; reopening of comment period.

SUMMARY: On September 15, 2010, we, the U.S. Fish and Wildlife Service, announced the availability of the Draft Revised Recovery Plan for the Northern Spotted Owl (Strix occidentalis caurina) for public review and comment. We are reopening the comment period on an updated version of Appendix C of that document, which describes the development of a spotted owl habitat modeling tool.

DATES: To ensure consideration, please send your written comments by May 23, 2011.

ADDRESSES: Document availability: Electronic copies of the draft revised recovery plan and the updated version of Appendix C are available online at: http://www.fws.gov/oregonfwo/Species/Data/NorthernSpottedOwl/Recovery/. Printed loose-leaf copies of the updated version of Appendix C are available by request from Diana Acosta, U.S. Fish and Wildlife Service, Oregon Fish and Wildlife Office, 2600 SE 98th Avenue, Ste. 100, Portland, OR 97266 (phone: 503-231-6179). Comment submission: Written comments regarding the updated version of Appendix C should be addressed to the above Portland address or sent by e-mail to: NSORPComments@fws.gov.

FOR FURTHER INFORMATION CONTACT: Brendan White at the above address and phone number.

SUPPLEMENTARY INFORMATION: On September 15, 2010, we published a Federal Register notice (75 FR 56131) announcing the availability of the Draft Revised Recovery Plan for the Northern Spotted Owl (Strix occidentalis caurina) for public review and comment under the Endangered Species Act (16 U.S.C. 1531 et seq.). We originally opened this comment period for 60 days, from September 15, 2010, to November 15, 2010. On November 12, 2010, we announced by way of press release an extension of the comment period until December 15, 2010, in response to several requests for additional time to review and comment on the Draft Revised Recovery Plan. On November 30, 2010, we announced in the Federal Register the reopening of the public comment period until December 15, 2010 (75 FR 74073). At that time we also announced the availability of a synopsis of the population response modeling results for public review and comment. This and other information regarding the modeling process was posted on our Web site. Of the approximately 11,700 comments received, many requested the opportunity to review and comment on more detailed information on the habitat modeling process in Appendix C of the Draft Revised Recovery Plan.

For background information on the Draft Revised Recovery Plan, see our September 15, 2010, Federal Register notice (75 FR 56131). The version of Appendix C contained in the Draft Revised Recovery Plan described the modeling framework under development for evaluation of habitat conservation measures for the spotted owl. Since that was written, we have completed development and testing of this modeling framework for public review and comment. Once comments have been considered and incorporated as appropriate, this modeling framework will have a wide variety of applications in support of spotted owl recovery.

The revised Appendix C, which is now available for comment, describes the three-part modeling framework, which includes: A spotted owl habitat suitability model; a spotted owl conservation planning model that can be used to design habitat conservation network scenarios; and a spotted owl population simulation model to predict relative population responses to different habitat conservation network scenarios and conservation measures. To test the modeling framework's ability to evaluate the influence of habitat conservation network size and spatial distribution on spotted owl population performance, revised Appendix C also describes the results of an analysis of 10 different habitat conservation network scenarios under different conditions. We are seeking comments on the modeling process, our test results and other aspects of revised Appendix C.

We anticipate revising recovery action 4 in the Revised Recovery Plan to reflect completion of development and testing of the modeling framework as part of recovery plan development.

Public Availability of Comments

Before including your address, phone number, e-mail address, or other personal identifying information in your comment, you should be aware that your entire comment—including personal identifying information—may be made publicly available at any time. While you may ask us in your comment to withhold personal identifying information from public review, we cannot guarantee that we will be able to do so.

Authority

The authority for this action is section 4(f) of the Endangered Species Act, 16 U.S.C. 1533(f).

Dated: April 1, 2011.
Richard Hannan,
Regional Director, Region 1, U.S. Fish and Wildlife Service.

[FR Doc. 2011-9864 Filed 4-21-11; 8:45 am]

BILLING CODE 4510-55-P